ENVIRONMENTAL PROTECTION AGENCY

40 CFR Part 52

[EPA-R05-OAR-2017-0082; FRL-9969-64-Region 5]

Air Plan Approval; Illinois; Regional Haze Progress Report

AGENCY: Environmental Protection Agency (EPA).

ACTION: Direct final rule.

SUMMARY: The Environmental Protection Agency (EPA) is approving the regional haze progress report under the Clean Air Act (CAA) as a revision to the Illinois State Implementation Plan (SIP). Illinois has satisfied the progress report requirements of the Regional Haze Rule. Illinois has also met the requirements for a determination of the adequacy of its regional haze plan with its negative declaration submitted with the progress report.

DATES: This direct final rule will be effective December 18, 2017, unless EPA receives adverse comments by November 17, 2017. If adverse comments are received, EPA will publish a timely withdrawal of the direct final rule in the Federal Register informing the public that the rule will not take effect.

ADDRESSES: Submit your comments, identified by Docket ID No. EPA-R05-OAR-2017-0082 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit http://www2.epa.gov/dockets/commenting-epa-dockets.

FOR FURTHER INFORMATION CONTACT: Charles Hatten, Environmental Engineer, Control Strategy Section, Air Programs Branch (AR-18J), Environmental Protection Agency, Region 5, 77 West Jackson Boulevard, Chicago, Illinois 60604, (312) 886-6031, hatten.charles@epa.gov.

SUPPLEMENTARY INFORMATION: Throughout this document whenever “we,” “us,” or “our” is used, we mean EPA. This supplementary information section is arranged as follows:

I. Background

II. EPA's Analysis of Illinois's Regional Haze Progress Report and Adequacy Determination

III. What action is EPA taking?

IV. Statutory and Executive Order Reviews

I. Background

States are required to submit a progress report every five years that evaluates progress towards the Reasonable Progress Goals (RPGs) for each mandatory Class I Federal area ¹ (Class I area) within the state and in each Class I area outside the state which may be affected by emissions from within the state. See 40 CFR 51.308(g). States are also required to submit, at the same time as the progress report, a determination of the adequacy of the state's existing regional haze SIP. See 40 CFR 51.308(h). The first progress report must be submitted in the form of a SIP revision and is due five years after the submittal of the initial regional haze SIP. On June 24, 2011, Illinois submitted its first regional haze SIP in accordance with the requirements of 40 CFR 51.308. EPA approved Illinois' regional haze plan into its SIP on July 6, 2012, 77 FR 39943.

¹ Areas designated as mandatory Class I Federal areas consist of national parks exceeding 6000 acres, wilderness areas and national memorial parks exceeding 5000 acres, and all international parks that were in existence on August 7, 1977 (42 U.S.C. 7472(a)). Listed at 40 CFR part 81, subpart D.

On February 1, 2017, Illinois submitted a SIP revision consisting of a report on the progress made in the first implementation period towards the RPGs for Class I areas outside of Illinois (progress report). Illinois does not have any Class I areas within its borders. This progress report included a determination that Illinois' existing regional haze SIP requires no substantive revision to achieve the established regional haze visibility improvement and emissions reduction goals for 2018. EPA is approving Illinois' progress report on the basis that it satisfies the requirements of 40 CFR 51.308.

II. EPA's Analysis of Illinois's Regional Haze Progress Report and Adequacy Determination

On February 1, 2017, Illinois EPA submitted the progress report as a revision to its regional haze SIP to address progress made in the first planning period towards RPGs for Class I areas that are affected by emissions from Illinois' sources. The progress report included a determination of the adequacy of the state's existing regional haze SIP.

Illinois has no Class I areas within its borders. In the initial SIP, the following Class I areas are identified as sites that may be affected by emissions from within Illinois: Sipsey Wilderness Area (Alabama), Caney Creek Wilderness Area and Upper Buffalo Wilderness Area (Arkansas), Great Gulf Wilderness Area (New Hampshire), Boundary Waters Canoe Wilderness Area (Minnesota), Brigantine Wilderness Area (New Jersey), Great Smoky Mountains National Park (North Carolina, and Tennessee), Mammoth Cave National Park (Kentucky), Acadia National Park and Moosehorn Wilderness Area (Maine), Isle Royale National Park and Seney Wilderness Area (Michigan), Hercules-Glades Wilderness Area and Mingo Wilderness Area (Missouri), Lye Brook Wilderness (Vermont), James River Face Wilderness and Shenandoah National Park (Virginia), and Dolly Sods/Otter Creek Wilderness (West Virginia).

In developing the Long Term Strategy (LTS), the original Illinois regional haze SIP determined that “on-the-books” controls, together with best available retrofit technology (BART) controls, would constitute the measures necessary to address Illinois' contribution to visibility impairment in the Class I areas at which emissions from Illinois contribute. This was supported by modeling assessments from the Midwest Regional Planning Organization (MRPO) and in consultation with other states and Regional Planning Organizations.

A. Regional Haze Progress Report SIP Elements

The following sections discuss the information provided by Illinois in the progress report. Each section describes Illinois' applicable progress report submission along with EPA's analysis and proposed determination as to whether the submission met the applicable requirements of 40 CFR 51.308.

1. Status of Implementation of All Measures Included in the Regional Haze SIP

Illinois provided the status of implementation of all control measures as required by 40 CFR 51.308(g)(1). Illinois identified control measures regulated explicitly for the purposes of the regional haze program, as well as additional control measures that were expected to take effect within the first planning period. The regional haze controls implemented by Illinois include both BART and a LTS.

In its original regional haze SIP, Illinois relied primarily on three control strategies for meeting its regional haze requirements to ensure reasonable progress: ² (1) Federal consent decrees for two petroleum refineries; (2) source-specific limits for three power plants that were included in Federally enforceable permits; and, (3) emission reductions from the vast majority of state's electric generating unit (EGU) fleet resulting from the Multi-Pollutant Standard (MPS) and the Combined Pollutant Standard (CPS) regulatory requirements found in Title 35 of the Illinois Administrative Code (35 IAC), Mercury Rule, Part 225, Subpart B—Control of Mercury Emissions from Coal-Fired Electric Generating Units (Part 225). These elements of Illinois' SIP satisfied the requirements for BART in 40 CFR 51.308(e). All three control strategies have been implemented or are being implemented on the schedules approved in the SIP.

² Illinois did not rely upon the Clean Air Interstate Rule (CAIR) or the Cross-State Air Pollution Rule (CSAPR) for its regional haze SIP, and thus, has avoided the issues that presented themselves in other states due to their reliance on CAIR and CSAPR.

In addition to these control measures being implemented, in Section 1.2 of the report Illinois identified a list of “on-the-books” control measures used in the MRPO's modeling for Illinois' SIP that the state expected to implement between 2002 and 2018. These “on-the-books” control measures are being implemented as planned or in a manner at least as stringent as anticipated at the time of the original haze plan submittal. More detailed information regarding the implementation dates of the various control measures can be found in Appendix A of the report.

Illinois did not rely on additional emissions controls from other states in its regional haze strategy. In Section 1.3 of the report, Illinois noted the following additional control measures not considered in Illinois' regional haze SIP which are expected to contribute to further reduction of sulfur dioxide (SO2) emissions before 2018: Compliance with the 2010 SO2 National Ambient Air Quality Standard, and the Federal Tier 3 Vehicle Emissions and Fuel Standard Program (2014).

The report noted that in 2015 Illinois adopted regulations that set statewide fuel sulfur standards for stationary sources at 1000 parts per million (ppm) for residual oil and 15 ppm for distillate fuel oil. These regulatory requirements were to be implemented by January 1, 2017.

EPA concludes that Illinois has adequately addressed the status of control measures in its regional haze SIP as required by 40 CFR 51.308(g)(1).

2. Summary of Emissions Reductions Achieved in the State Through Implementation of Measures

In its progress report, Illinois provided a summary of emission reductions achieved through implementation of control strategies described in the above paragraph as required by 40 CFR 51.308(g)(1).

Illinois' reliance upon the MPS and CPS from 35 IAC 225, the source-specific limits incorporated into Federally enforceable permits for three power plants, and requirements contained in Federal consent decrees for two petroleum refineries have resulted in significant emission reductions of nitrogen oxides (NOX) and SO2. In Section 2.0 of the progress report, Illinois provided emissions data from the base year 2002 for the regional haze rule, projections of emissions for 2015 and 2018, and actual emissions data from EPA's Air Markets Program Data. These data indicate that greater reductions of NOX and SO2 emissions have occurred in 2015 at regulated sources than were anticipated for the entire first implementation period ending in 2018.

The additional emission reductions reported in Section 2.0 were based on other factors such as the shutting down or conversion of coal-fired EGUs to combustion of other fuels, and control measures related to Federal requirements such as, Maximum Achievable Control Technology and the Mercury and Air Toxics Standards. The report shows that emission reduction of visibility-impairing pollutants in Illinois have been greater than anticipated at the time of its regional haze plan submittal.

EPA finds the summary of emission reductions achieved from control strategy implementation adequately addresses the applicable provisions of 40 CFR 51.308(g)(2).

3. Assessment of Visibility Conditions and Changes for Each Mandatory Class I Federal Area in the State

Illinois does not have any Class I areas within its boundaries, and as the applicable provisions pertain only to states containing Class I areas, no further discussion is necessary. EPA concludes that Illinois has adequately addressed the applicable provisions of 40 CFR 51.308(g).

4. Analysis Tracking Emissions Changes of Visibility-Impairing Pollutants

In its progress report, Illinois provided an analysis tracking the emissions progress over the past five years, as required by 40 CFR 51.308(g)(4). Illinois based its report on the most recent updated emissions inventory to account for emission changes during the applicable five-year period. The analysis includes emissions of SO2, NOX, ammonia (NH3), volatile organic compound (VOC), and direct emissions of fine particulate matter (PM2.5) for the years 2010 to 2014 (the most recent year for which Illinois has a full quality-assured inventory). In order to provide a five-year analysis with data from years with full quality-assured inventories, Illinois EPA has interpolated 2010 inventory data from its 2008 and 2011 inventories.

Table 1 below contains Illinois inventory data aggregated by source type for each visibility-impairing pollutant. This data shows significant reductions in Illinois emissions of SO2 (40% reduction) and NOX (15% reduction) while showing slight increases or decreases in emissions of PM2.5 (0.15% increase), VOC (0.5% increase), and NH3 (4% reduction).

Table 1—Illinois Emissions by Source Type
Source type | SO2 (tpy): 2010 | SO2 (tpy): 2014 | NOX (tpy): 2010 | NOX (tpy): 2014 | PM2.5 (tpy): 2010 | PM2.5 (tpy): 2014 | VOC (tpy): 2010 | VOC (tpy): 2014 | NH3 (tpy): 2010 | NH3 (tpy): 2014
Point Source | 311,447 | 182,200 | 151,017 | 99,753 | 10,929 | 14,261 | 45,598 | 42,345 | 1,622 | 1,901
Area Source | 5,733 | 5,688 | 45,150 | 58,012 | 119,001 | 118,411 | 166,221 | 172,831 | 69,916 | 68,177
On-Road Mobile | 1,037 | 1,040 | 187,348 | 174,774 | 5,290 | 5,286 | 70,721 | 73,769 | 6,048 | 3,868
Off-Road Mobile | 1,994 | 2,576 | 144,695 | 116,965 | 9,596 | 7,074 | 77,368 | 72,795 | 96 | 109
Animal Husbandry | 0 |  | 0 |  | 0 |  | 0 |  | 45,826 | 44,442
Total | 320,232 | 191,504 | 528,211 | 449,504 | 144,816 | 145,032 | 359,909 | 361,740 | 123,507 | 118,496

An additional table in the report shows the significant reductions in SO2 and NOX emissions were driven primarily by reductions from the EGU sector. Illinois anticipates that this trend will continue in 2015 and beyond, due to further increases in the stringency of the state regulations and additional coal-fired EGUs in Illinois being retired or converted to natural gas combustion.

Emissions of VOC and PM2.5 appear to have increased slightly over the five-year period. However, Illinois EPA analysis indicates that this apparent increase is due mainly to changes in inventory methodologies. While VOC emissions in Illinois decreased for many subcategories in the inventory summary, these reductions are overwhelmed by the significant increase in the “Petroleum and Related Industries” subcategory. With respect to calculating the proportion of PM2.5 in source emissions, Illinois determined that the apparent increase in PM2.5 emissions is from the EGU sector, while overall PM emissions, fuel usage, and emissions of other pollutants for the EGU sector showed significant reductions.

Overall emissions of visibility-impairing pollutants in Illinois have declined over the five-year period between 2010 and 2014. Again, the regional haze SIP for Illinois control strategies focused primarily on reductions of SO2 and NOX.

EPA finds that the analysis tracking the emissions progress over the past five years adequately addresses the applicable provisions of 40 CFR 51.308(g).

5. Assessment of Changes Impeding Visibility Progress

The Regional Haze Rule at 40 CFR 51.308(g)(5) requires an assessment of any significant changes in emissions over the past five years that have impeded progress in improving visibility.

In the progress report, Illinois has not identified any significant changes in anthropogenic emissions within Illinois that have occurred over the last five years that would limit or impede progress in improving visibility. Illinois reports that there have been no significant unexpected increases in emissions in the past five years. Likewise, Illinois reports that there have been no projected decreases in pollutant emissions from the regional haze SIP that have not been realized. Data detailed in Sections 2.0 and 4.0 of Illinois' progress report show Illinois achieving emission reductions of SO2 and NOX beyond the projected emission reductions in the original regional haze SIP.

Because Illinois does not contain any Federal Class I areas, Illinois is not required to assess whether emission increases outside the state are causing a Class I area within the state to be adversely affected. Thus, EPA concludes that Illinois has adequately addressed the applicable provisions of 40 CFR 50.308.

6. Assessment of Current Strategy

In its progress report, Illinois submits that the elements and strategies outlined in its original regional haze SIP are sufficient to enable Illinois and states where Illinois contributes to visibility impairments to meet all established RPGs. To support this conclusion, Illinois has implemented, or will implement by 2018, all controls from its regional haze plan. In the progress report, Illinois states that good progress has been made in reducing in visibility-impairing pollutants in the last five years. The state noted that it is on track to meet its 2018 goals for emission reductions before the end of 2018 for key pollutants, SO2 and NOX. Section 2.0 of the progress report, provides actual emissions data showing significant emissions reductions in visibility impairing pollutants in 2015 that have already exceeded the projected emission reductions in the Illinois by 2018.

EPA agrees that Illinois' assessment of strategies outlined in its regional haze SIP has adequately addressed the applicable provisions of 40 CFR 50.308.

7. Review of the State's Visibility Monitoring Strategy

Illinois's progress report indicates that there are no Class I areas within its borders. EPA concludes that because Illinois does not have any Class I areas within its borders and therefore is not required to address the applicable provisions related to review of the state's visibility monitoring strategy, the state has adequately addressed the applicable provisions of 40 CFR 51.308.

B. Determination of Adequacy of the Existing Regional Haze Plan

The rule at 40 CFR 51.308(h) requires a determination of adequacy for the regional haze plan to be submitted at the same time as the progress report. The rule requires the state to select from four options based on the information given in the progress report. Illinois submitted a negative declaration that further substantive revisions to its regional haze plan are not needed at this time. Illinois determined that its regional haze plan is adequate to meet the regional haze rule requirements and expects Class I areas affected by Illinois to achieve the reasonable progress goals. The nearest Class I area outside the state of Illinois is either in southwestern Missouri or northern Michigan. See 77 FR 3966, 3967 (January 12, 2012). Illinois reports that it is on track to meet the visibility improvement and emission reduction goals. EPA agrees that the current Illinois regional haze plan is adequate to achieve these goals.

C. Public Participation and Federal Land Manager (FLM) Consultation

On June 23, 2016, Illinois provided an opportunity for FLMs to review the revision to Illinois' SIP reporting on progress made during the first implementation period toward RPGs for Class I areas outside the state that are affected by emissions from Illinois' sources. This was 60 days in advance of the public hearing.

Illinois' progress report includes the FLMs comments received and responses to those comments in Appendix A in the progress report.

Illinois also published notification for a public hearing and solicitation for comments in the Illinois Register on October 7, 2016, with the public comment period commencing on that day and ending on November 6, 2016. Illinois received no request for a public hearing. Illinois received one public comment during the public comment period. The state provided a response to the comment, regarding the Illinois regional haze report.

EPA finds that Illinois has addressed the applicable requirements in § 51.308(i) regarding FLM consultation.

III. What action is EPA taking?

EPA is approving the regional haze progress report submitted on February 1, 2017, as a revision to the Illinois SIP. Illinois has satisfied the progress report requirements of 40 CFR 51.308(g). EPA also finds that Illinois has met the 40 CFR 51.308(h) requirements for a determination of the adequacy of its regional haze plan with its negative declaration also submitted on February 1, 2017.

We are publishing this action without prior proposal because we view this as a noncontroversial amendment and anticipate no adverse comments. However, in the proposed rules section of this Federal Register publication, we are publishing a separate document that will serve as the proposal to approve the state plan if relevant adverse written comments are filed. This rule will be effective December 18, 2017 without further notice unless we receive relevant adverse written comments by November 17, 2017. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective December 18, 2017.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 18, 2017. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of this Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Nitrogen dioxide, Particulate matter, Reporting and recordkeeping requirements, Sulfur oxides, Volatile organic compounds.

Dated: September 28, 2017.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. In § 52.720, the table in paragraph (e) is amended by adding an entry for “Regional Haze Progress Report” immediately following the entry for “Regional haze plan” to read as follows:

§ 52.720 Identification of plan.

* * * * *

(e) * * *

EPA-Approved Illinois Nonregulatory and Quasi-Regulatory Provisions
Name of SIP provision | Applicable geographic or nonattainment area | State submittal date | EPA approval date | Comments
* * * * * * *
Regional Haze Progress Report | Statewide | 02/01/17 | 10/18/17, [Insert Federal Register citation] |
* * * * * * *

[FR Doc. 2017-22502 Filed 10-17-17; 8:45 am]

BILLING CODE 6560-50-P